DEPARTMENT OF JUSTICE

Antitrust Division

Notice Pursuant to the National Cooperative Research and Production Act of 1993—VSI Alliance

Notice is hereby given that, on July 12, 2002, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, ARC International PLC, Nashua, NH; Beijing Hongsi Electronic Technology Co., Ltd., Beijing, PEOPLE'S REPUBLIC OF CHINA; Himanshu Dwivedi (individual member), San Francisco, CA; Robert Helt (individual member), Moraga, CA; Dr. Rabi Mahapatra (individual member), College Station, TX; Seijiro Moriyama (individual member), Yokohama, JAPAN; Prosilog SA, Cergy-Prefectire. FRANCE; TTChip Entwicklungsges.m.b.H., Vienna, AUSTRIA; University of Kitakyushu, Dept. of Information & Media Sciences, Kitakyusha-shi, JAPAN; and Vast Systems Technology, Sunnyvale, CA have been added as parties to this venture.

Also, Adaptive Silicon, Inc., Lost Gatos, CA; Alcatel Internetworking (PE), Inc., Spokane, WA; Altera Corporation, San Jose, CA; Arc Cores Ltd., San Jose, CA; Patrick Beauvillard (individual member), Saint Lambert des Bois, FRANCE; BOPS, Inc., Chapel Hill, NC; Easics NV, Leuven, BELGIUM; HCL Technologies India Pvt. Ltd., Chennai, INDIA; IDEC-IC Design Education Center, Taejon, REPUBLIC OF KOREA; Logic Research Corporation, Fukuoka-shi, JAPAN; Memec Core, Raleigh, NC; MystiCom Ltd, Netanya, ISRAEL; Nazomi Communications, Inc., Santa Clara, CA; Nogatech Ltd., Kfar-Saba, ISRAEL; Palmchip, San Jose, CA; Qualis Design Corporation, Lake Oswego, OR; RealChip, Sunnyvale, CA; Tensilica, Inc., Santa Clara, CA; and Virtual Silicon Technology, Inc., Sunnyvale, CA have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on April 16, 2002. A notice was published in the Federal Register pursuant to Section 6(b) of the Act on May 29, 2002 (67 FR 37441).

Constance K. Robinson,
Director of Operations, Antitrust Division.

[FR Doc. 02-20412 Filed 8-12-02 8:45am]

BILLING CODE 4410-11-M